DEPARTMENT OF LABOR

Office of Workers' Compensation Programs

Division of Coal Mine Workers' Compensation; Proposed Extension of Existing Collection; Comment Request

ACTION: Notice.

SUMMARY: Currently, the Office of Workers' Compensation Programs is soliciting comments concerning the proposed collection: Report of Changes that May Affect Your Black Lung Benefits (CM-929 and CM-929P). A copy of the proposed information collection request can be obtained by contacting the office listed below in the addresses section of this Notice. This program helps to ensure that requested data can be provided in the desired format, reporting burden (time and financial resources) is minimized, collection instruments are clearly understood, and the impact of collection requirements on respondents can be properly assessed.

DATES: Written comments must be submitted by December 12, 2017.

ADDRESSES: You may submit comments by mail, delivery service, or by hand to Ms. Yoon Ferguson, U.S. Department of Labor, 200 Constitution Ave. NW., Room S-3323, Washington, DC 20210; by fax to (202) 354-9647; or by Email to ferguson.yoon@dol.gov. Please use only one method of transmission for comments (mail/delivery, fax, or Email). Please note that comments submitted after the comment period will not be considered.

SUPPLEMENTARY INFORMATION: The Department of Labor, as part of its continuing effort to reduce paperwork and respondent burden, conducts a preclearance consultation program to provide the general public and Federal agencies with an opportunity to comment on proposed and/or continuing collections of information in accordance with the Paperwork Reduction Act of 1995 (PRA95).

I. Background: The Black Lung Benefits Act, 30 U.S.C. 901 et seq., 30 U.S.C. 936 and 941, and its implementing requlations, 20 CFR 725.533(e), authorizes the Division of Coal Mine Workers' Compensation (DCMWC) to collect information regarding payments of compensation to coal miners and other beneficiaries. Once a miner or survivor is found eligible for benefits, the primary beneficiary is requested to report certain changes that may affect benefits. To ensure that there is a review and update of all claims paid from the Black Lung Disability Trust Fund, and from Social Security cases transferred to the Department of Labor under the Black Lung Consolidation of Administrative Responsibilities Act of 2002, and to help the beneficiary comply with the need to report certain changes, the CM-929 is sent to all appropriate primary beneficiaries. The CM-929 is printed by the DCMWC computer system with information specific to each beneficiary, such as name, address, number of dependents on record, state workers' compensation information, and amount of current benefits. The beneficiary reviews the information and certifies that the information is current, or provides updated information. The form includes a warning about potential consequences of failure to report changes.

The CM-929P is sent to all beneficiaries who have a representative payee. Compensation is paid to a representative payee on behalf of the beneficiary when the beneficiary is unable to manage his/her benefits due to incapability, incompetence or minority. The CM-929P is printed by the DCMWC computer system with information specific to each beneficiary, such as name, address, number of dependents on record, state workers' compensation information, and amount of benefits. Additionally, representative payees are requested to provide information regarding the use of benefits received, where the beneficiary lives, and ensuring the needs of the beneficiary are being met. The representative payee reviews the information specific to the beneficiary, as well as provides their accounting of the funds received, and certifies that all information is current or provides updated information. The form includes a warning about potential consequences of failure to report changes.

This information collection is currently approved for use through December 31, 2017.

II. Review Focus: The Department of Labor is particularly interested in comments which:

* Evaluate whether the proposed collection of information is necessary for the proper performance of the functions of the agency, including whether the information will have practical utility;

* evaluate the accuracy of the agency's estimate of the burden of the proposed collection of information, including the validity of the methodology and assumptions used;

* enhance the quality, utility and clarity of the information to be collected; and

* minimize the burden of the collection of information on those who are to respond, including through the use of appropriate automated, electronic, mechanical, or other technological collection techniques or other forms of information technology, e.g., permitting electronic submissions of responses.

III. Current Actions: The Department of Labor seeks the approval for the extension of this currently-approved information collection in order to verify the accuracy of information in the beneficiary's claims file, to identify changes in the beneficiary's status, to ensure that the amount of compensation being paid the beneficiary is accurate, and to verify that a representative payee is using benefits received to meet the beneficiary's needs.

Agency: Office of Workers' Compensation Programs.

Type of Review: Extension.

Title: Report of Changes That May Affect Your Black Lung Benefits.

OMB Number: 1240-0028.

Agency Number: CM-929 and CM-929P.

Affected Public: Individuals and Not-for-profit institutions.

Form | Time to complete (minutes) | Frequency of response (minutes) | Number of respondents | Number of responses | Hours burden
CM-929 | 5-8 | Annually | 26,000 | 26,000 | 1,999
CM-929P | 6-80 | Annually | 3,380 | 3,380 | 4,090
Totals | 12 |  | 29,380 | 29,380 | 6,089

Total Respondents: 29,380.

Total Annual Responses: 29,380.

Average Time per Response: 12 minutes.

Estimated Total Burden Hours: 6,089.

Frequency: Annually.

Total Burden Cost (capital/startup): $0.

Total Burden Cost (operating/maintenance): $0.

Comments submitted in response to this notice will be summarized and/or included in the request for Office of Management and Budget approval of the information collection request; they will also become a matter of public record.

Dated: October 3, 2017.
Yoon Ferguson,
Agency Clearance Officer, Office of Workers' Compensation Programs, US Department of Labor.

[FR Doc. 2017-22164 Filed 10-12-17; 8:45 am]

BILLING CODE 4510-CK-P